INTERNATIONAL TRADE COMMISSION

[Investigation No. 337-TA-1340]

Certain Electronic Devices, Semiconductor Devices, and Components Thereof; Notice of Commission Determination Not To Review an Initial Determination To Withdraw the Complaint and Terminate the Investigation With Respect to the Remaining Respondents; Termination of Investigation

AGENCY: International Trade Commission.

ACTION: Notice.

SUMMARY: Notice is hereby given that the U.S. International Trade Commission has determined not to review an initial determination (“ID”) (Order No. 28) terminating the investigation with respect to the remaining respondents due to withdrawal of the complaint. This investigation is hereby terminated.

FOR FURTHER INFORMATION CONTACT: Carl P. Bretscher, Esq., Office of the General Counsel, U.S. International Trade Commission, 500 E Street SW, Washington, DC 20436, telephone (202) 205-2382. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On November 14, 2022, the Commission instituted this investigation based on a complaint, as amended, filed on behalf of Bell Semiconductor, LLC of Bethlehem, Pennsylvania (“Bell”). 87 FR 68192-93 (Nov. 14, 2022). The complaint, as amended and supplemented, alleged violations of section 337 of the Tariff Act of 1930, as amended, 19 U.S.C. 1337, based upon the importation into the United States, sale for importation, or sale in the United States after importation of certain electronic devices, semiconductor devices, and components thereof that infringe one or more asserted claims of U.S. Patent Nos. 7,231,626 and 7,260,803. Id. at 68193. The complaint alleges that a domestic industry exists. Id. at 68192.

The Commission's notice of investigation names as respondents SMC Networks, Inc. of Irvine, California (“SMC”); Acer, Inc. of New Taipei City, Taiwan and Acer America Corporation of San Jose, California (collectively, “Acer”); NXP Semiconductors, N.V. of Eindhoven, Netherlands, NXP B.V. of Eindhoven, Netherlands, and NXP USA, Inc. of Austin, Texas (collectively, “NXP”); Micron Technology, Inc. of Boise, Idaho (“Micron”); NVIDIA Corporation of Santa Clara, California (“NVIDIA”); Advanced Micro Devices, Inc. of Santa Clara, California (“AMD”); Infineon Technologies AG of Neubiberg, Germany and Infineon Technologies America Corp. of Milpitas, California (“Infineon”); Motorola Mobility LLC of Chicago, Illinois (“Motorola”); and Western Digital Technologies, Inc. of San Jose, California (“WDT”). The Office of Unfair Import Investigations (“OUII”) is also participating as a party in this investigation. Id. at 68193.

On March 16, 2023, the Commission terminated the investigation with respect to Micron, NVIDIA, AMD, Infineon, Motorola, and WDT based on two settlement agreements. Order No. 15 (Feb. 14, 2023), unreviewed by Comm'n Notice (March 16, 2023). On April 19, 2023, the Commission terminated the investigation with respect to Acer based on withdrawal of the complaint. Order No. 24 (March 30, 2023), unreviewed by Comm'n Notice (April 19, 2023). On May 30, 2023, the Commission terminated the investigation with respect to SMC due to withdrawal of the complaint. Order No. 27 (April 27, 2023), unreviewed by Comm'n Notice (May 30, 2023).

On May 8, 2023, Bell filed an unopposed motion to withdraw the complaint and terminate the investigation and suspend the procedural schedule with respect to the remaining NXP respondents, pursuant to Commission Rule 210.21(a) (19 CFR 210.21(a)). On May 9, 2023, OUII filed a response in support of Bell's motion.

On May 9, 2023, the presiding ALJ issued the subject ID (Order No. 28) granting the motion, terminating the investigation as to NXP, and terminating the investigation in its entirety. The ALJ ordered suspension of the procedural schedule with respect to NXP pending final disposition by the Commission. The ID finds that the motion meets the requirements of Commission Rule 210.21(a), in that there are no other agreements, written or oral, express or implied, between Bell and SMC concerning the subject matter of the investigation. Order No. 28 at 1. The ALJ further found no extraordinary circumstances that would prevent granting the requested motion. Id. at 2.

No party petitioned for review of the subject ID.

The Commission has determined not to review the subject ID. Accordingly, NXP is terminated from this investigation, and this investigation is hereby terminated.

The Commission vote for this determination took place on May 31, 2023.

The authority for the Commission's determination is contained in section 337 of the Tariff Act of 1930, as amended (19 U.S.C. 1337), and in part 210 of the Commission's Rules of Practice and Procedure (19 CFR part 210).

By order of the Commission.
Issued: June 1, 2023.
Lisa Barton,
Secretary to the Commission.

[FR Doc. 2023-11993 Filed 6-5-23; 8:45 am]

BILLING CODE 7020-02-P